DEPARTMENT OF EDUCATION

[Docket ID ED-2018-FSA-0029]

Privacy Act of 1974; Matching Program

AGENCY: Department of Education.

ACTION: Notice of a New Matching Program.

SUMMARY: This provides notice of the re-establishment of the matching program between the U.S. Department of Education (Department) and the Social Security Administration (SSA). The purpose of the matching program is to assist the Department in facilitating borrowers who owe a balance on one or more student loans under title IV of the Higher Education Act of 1965, as amended (HEA), should they wish to do so, to more efficiently and effectively apply for a total and permanent disability (TPD) discharge of their student loans. The matching program also will assist the Department in allowing recipients of Teacher Education Assistance for College and Higher Education (TEACH) Grants under title IV of the HEA who are obligated to repay due to failure to complete their agreement to serve, should they wish to do so, to more efficiently and effectively apply for a TPD discharge of their agreement to serve.

DATES: Submit your comments on the proposed matching program on or before August 20, 2018.

The matching program will go into effect 30 days after the publication of this notice, on July 19, 2018, unless comments have been received from interested members of the public requiring modification and republication of the notice. The matching program will continue for 18 months after the effective date and may be extended for an additional 12 months, if the respective Data Integrity Boards (DIBs) of the Department and SSA determine that the conditions specified in 5 U.S.C. 552a(o)(2)(D) have been met.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about these proposed regulations, address them to Brenda Seidel, Management and Program Analyst, Federal Student Aid, U.S. Department of Education, 830 First Street NE, Washington, DC 20202-5320, Telephone: 202-377-3982.

Privacy Note: The Department's policy is to make all comments received from members of the public available for public viewing in their entirety on the Federal eRulemaking Portal at www.regulations.gov. Therefore, commenters should be careful to include in their comments only information that they wish to make publicly available.

FOR FURTHER INFORMATION CONTACT: Pam Eliadis, Service Director, System Operations & Aid Delivery Management, Federal Student Aid, U.S. Department of Education, 830 First Street NE, Washington, DC 20202-5320. Telephone: 202-377-3554.

SUPPLEMENTARY INFORMATION: We provide this notice in accordance with Privacy Act of 1974, as amended (Privacy Act) (5 U.S.C. 552a); Office of Management and Budget (OMB) Final Guidance Interpreting the Provisions of Public Law 100-503, the Computer Matching and Privacy Protection Act of 1988, 54 FR 25818 (June 19, 1989); and OMB Circular No. A-108.

Participating Agencies: The U.S. Department of Education and the Social Security Administration.

Authority For Conducting The Matching Program: The Department's legal authority to enter into this matching program and to disclose information as part of this matching program is sections 420N(c), 437(a)(1), 455(a)(1), and 464(c)(1)(F)(ii and iii) of the HEA (20 U.S.C. 1070g-2(c), 1087(a)(1), 1087e(a)(1)), and 1087dd(c)(1)(F)(ii and iii)), the regulations promulgated pursuant to these sections (34 CFR 674.61(b), 682.402(c), 685.213, and 686.42(b)), and the Privacy Act (5 U.S.C. 552a(b)(3)).

SSA's legal authority to disclose information as part of this computer matching program is section 1106 of the Social Security Act (42 U.S.C. 1306), the regulations promulgated pursuant to that section (20 CFR part 401), and the Privacy Act (5 U.S.C. 552a(b)(3)).

Purpose(s): The matching program will assist the Department in facilitating borrowers who owe a balance on one or more student loans under title IV of the HEA, should they wish to do so, to more efficiently and effectively apply for a TPD discharge of their student loans. The matching program also will assist the Department in allowing recipients of TEACH Grants under title IV of the HEA who are obligated to repay due to failure to complete their agreement to serve, should they wish to do so, to more efficiently and effectively apply for a TPD discharge of their TEACH Grant service obligations.

Categories of Individuals: The Department will disclose to SSA individually identifiable information about individual borrowers who owe a balance on one or more loans under Title IV of the HEA. The Department also will disclose to SSA individually identifiable information about TEACH grant recipients who fail to complete their agreements to serve. SSA will compare the data provided by the Department with SSA data recorded in SSA's Disability Control File (DCF) and Master Beneficiary Record (MBR).

Categories of Records: The records to be used in the matching program are described as follows:

The Department will disclose to SSA the name, date of birth (DOB), and Social Security number (SSN) of individuals who owe a balance on one or more student loans under title IV of the HEA from the system of records entitled “National Student Loan Data System (NSLDS)” (18-11-06), as last published in the Federal Register in full on June 28, 2013 (78 FR 38963) and as last updated on April 2, 2014 (79 FR 18534).

The data from the Department described in the preceding paragraph will be matched with SSA data recorded in the Disability Control File, which originate from the Supplemental Security Income Record and Special Veterans Benefits (SSR/SVB), 60-0103, published in the Federal Register on January 11, 2006 (71 FR 1830) and updated on December 10, 2007 (72 FR 69723), and the Master Beneficiary Record (MBR) SSA/ORSIS 60-0090, published in the Federal Register on January 11, 2006 (71 FR 1826) and updated on December 10, 2007 (72 FR 69723) and July 5, 2013 (78 FR 40542), in order to provide the Department with Medical Improvement Not Expected disability data.

System(s) of Records: The Department will disclose to SSA information from, and maintain information obtained from SSA in, the Department's system of records entitled “National Student Loan Data System (NSLDS)” (18-11-06), as last published in the Federal Register in full on June 28, 2013 (78 FR 38963) and last updated on April 2, 2014 (79 FR 18534). SSA will disclose to the Department information from SSA's “Supplemental Security Income Record and Special Veterans Benefits” system of records 60-0103, published in the Federal Register on January 11, 2006 (71 FR 1830) and updated on December 10, 2007 (72 FR 69723), and the Master Beneficiary Record system of records 60-0090, published in the Federal Register on January 11, 2006 (71 FR 1826) and updated on December 10, 2007 (72 FR 69723) and July 5, 2013 (78 FR 40542).

Accessible Format: Individuals with disabilities can obtain this document in an accessible format (such as, braille, large print, audiotape, or compact disc) on request to Lisa Tessitore, Program Operations Specialist, Federal Student Aid, U.S. Department of Education, 830 First Street NE, Washington, DC 20202-5320. Telephone: 202-377-3249.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format. To use PDF you must have Adobe Acrobat Reader, which is available free at the site.

You may also access documents of the Department published in the Federal Register by using the article search feature at: www.federalregister.gov. Specifically, through the advanced search feature at this site, you can limit your search to documents published by the Department.

James F. Manning,
Acting Chief Operating Officer, Federal Student Aid.

[FR Doc. 2018-15457 Filed 7-18-18; 8:45 am]

BILLING CODE 4000-01-P